DEPARTMENT OF THE INTERIOR

National Park Service

Notice of Availability of the Draft Site Progress Report to the World Heritage Committee, Yellowstone National Park

AGENCY: National Park Service, Interior.

SUMMARY: Pursuant to the Decision adopted by the 27th Session of the World Heritage Committee (Document: WHC-03/27.COM/7A.12) accepted by the United States Government, the National Park Service (NPS) announces the publication for comment of a Draft Site Progress Report to the World Heritage Committee for Yellowstone National Park, Wyoming and Montana.

DATES: There will be a 30-day public review period for comments on this document. Comments must be received on or before December 26, 2003.

ADDRESSES: The Draft Site Report is included in the supplementary information section of this notice. Copies are also available by writing to Suzanne Lewis, Superintendent, Yellowstone National Park, P.O. Box 168, Yellowstone National Park, WY 82190-0168; by telephoning 307-344-2002; by sending an e-mail message to yell_world_heritage@nps.gov; or by picking up a copy in person at the park's headquarters in Mammoth Hot Springs, Wyoming, 82190. The document is also posted on the park's Web site at http://www.nps.gov/yell/publications/worldheritage/.

FOR FURTHER INFORMATION CONTACT: Suzanne Lewis, Superintendent, Yellowstone National Park, P.O. Box 168, Yellowstone National Park, WY 82190-0168, or by calling 307-344-2002.

SUPPLEMENTARY INFORMATION:

A. The World Heritage Committee Decision

In 1995, the World Heritage Committee, with the agreement of the United States, placed Yellowstone National Park, a designated World Heritage site, on its List of World Heritage in Danger in response to specific threats it identified to the outstanding universal value of the park. At its 27th Session in July 2003, the Committee decided to remove the park from the Danger List. The decision (27 COM 7A.12) is conveyed below:

The World Heritage Committee,

1. Notes the detailed report by the State Party provided on April 17, 2003;

2. Urges the State Party to continue to report on Yellowstone's snowmobile phase-out and other efforts to ensure that winter travel facilities respect the protection of the Park, its visitors, and its wildlife;

3. Recommends that the State Party continue its efforts in ensuring the McLaren Mine tailings are not contaminating the property;

4. Recognizes the progress made in addressing all the key issues that led to Danger Listing of the property in 1995 and considers that the reasons for retaining the property on this List no longer exist;

5. Congratulates the State Party for the considerable efforts and suggests to use this as a model case for promoting success stories of the World Heritage Convention and for international co-operation with other States Parties facing similar problems in World Heritage properties;

6. Decides to remove the property from the List of World Heritage in Danger.

7. Invites the State Party:

(a) to continue its commitment to address the issues that have concerned the Committee in the past;

(b) to provide to the World Heritage Centre by 1 February 2004, existing recovery plans setting out targets and indicators for the 6 remaining long-term management issues (mining activities outside the park, threats to bison, threats to cutthroat trout, water quality issues, road impacts, visitor use impacts);

(c) to continue to report to the Committee on the condition of the original threats and the progress made towards resolving these issues until such time that the Committee decides that the reports are no longer needed. These reports shall include public input, including—but not limited to—independent experts, NGOs, and other key stakeholders.

B. The NPS's Draft Site Report

In accordance with the Committee's request included in its decision to remove the park from the Danger List, the NPS has prepared a Site Report to continue to provide information to the World Heritage Committee on the original threats and the progress made towards resolving these issues. The Site Report provides a synopsis of the current status of the six specific threats outlined in 7(b) of the Committee's decision. The full text of the draft Site Report is as follows.

Yellowstone National Park Site Progress Report to the World Heritage Committee, October 2003

Introduction

The World Heritage Committee (WHC) named Yellowstone National Park as a World Heritage Site in Danger on December 5, 1995. In its report, the committee cited specific threats and dangers that were already affecting, were beginning to affect, or had potential to seriously derogate the outstanding universal value for which Yellowstone National Park was established as the nation's first national park. At the Paris meeting in June 2003, the WHC recognized that significant progress at Yellowstone had been made to effectively address the issues that caused the park to be listed, and removed the park from the list.

In removing the park from the list of troubled sites, the WHC recognized this progress, but also acknowledged that more work needed to be done on each of these issues. They also acknowledged the park's problems were complex and had developed over a long period of time, and they were not going to be resolved easily or quickly.

This report is an additional status report on the progress Yellowstone National Park has made on the 1995 threats and dangers topics listed by the World Heritage Committee.

Mining Activities

Threat in 1995: The New World Mine was a major Crown Butte Mines, Inc. proposal to reopen an older mining area on patented and U.S. Forest Service lands to new gold and silver harvest. The site was adjacent to the Absaroka-Beartooth Wilderness area (Gallatin National Forest) and Yellowstone National Park and was perceived to be a major threat to the resources of both areas.

Outcome: The U.S. Government and Crown Butte Mines, Inc. signed an agreement in 1996 to refrain from mining these lands, and the Congress appropriated $65 million for the acquisition of lands and interests, including cleanup of toxic overburden and tailings left over from a century of previous mining activity.

Status: The new mining proposal was shelved and most of the property was transferred to public domain. Cleanup of toxic materials from past mining started in 2000 and is expected to take seven years, but post-project maintenance will be funded in perpetuity. The McLaren tailings were left out of the clean up agreement and while the tailings (which are outside Yellowstone) have stabilized and water quality inside the park has improved, the park continues to work with its state and federal neighbors to have the tailings removed and the site restored.

Threats to Bison

Threat in 1995: Some of Yellowstone's bison are infected with Brucella abortus, the agent that causes the disease Brucellosis, and bison occasionally roam outside park boundaries. These bison may potentially transmit brucella to livestock grazing outside the park, which could, in turn, jeopardize the “Brucellosis Free” status of bordering states. Accordingly, the states view the presence of brucella in park wildlife as a significant economic threat to the livestock industry. Sometimes when animals migrate out of the park they are lethally removed, especially when wildlife population numbers are high and the winters are severe.

Outcome: In 2000, Yellowstone National Park, State of Montana, U.S. Forest Service, and USDA Plant and Animal Health Inspection Service cosigned a joint bison management plan that agreed to maintain wildlife populations and manage the risk of transmission from bison to cattle within the State of Montana. It is a long-term plan that should manage risks currently, and set the stage for future discussions about eradication of the disease. It is also an incremental plan that becomes more wildlife-friendly and lowers transmission risk to cattle with each incremental success.

Status: This carefully crafted consensus-based plan has been serially and successfully implemented for three years, and while not universally supported, many believe it addresses the major issues regarding the risk of brucellosis transmission from wildlife to livestock. While those actions are being implemented, discussions and research are currently underway to consider ways to eventually eliminate brucellosis from wildlife in the Greater Yellowstone Area while maintaining wild and free-ranging wildlife herds. For example, planning for bison vaccination and the development of a remote delivery system is underway, and the agencies are actively discussing a quarantine system external to the park to make bison available for other suitable western areas, and to help reduce bison deaths at the boundary.

Threats to Cutthroat Trout

Threats in 1995: In 1994, voracious, predatory, non-native lake trout and exotic trout whirling disease were discovered in Yellowstone Lake threatening the existence of the rare, endemic Yellowstone cutthroat trout, plus 42 other native birds and mammals that depend on cutthroats for their own survival. It could also potentially destroy a sport fishery that had a $36 million annual value.

Outcome: Experts on both fish species concluded that the risk of functional extinction of the native trout was real and substantial, but that no technology exists to eradicate lake trout from the lake nor treat or control the trout disease. In the near future, the best that could be hoped for was long-term suppression of lake trout, through the deployment of “industrial strength gillnets,” to restore the declining cutthroat trout population. This was implemented by NPS beginning in 1995 targeting the estimated 7,000 reproducing adult lake trout extant that year. In addition, a no-limit, no-live-release regulation for lake trout with sport anglers was also put into effect and continues to date. Considerable research and monitoring continues on the whirling disease dilemma.

Status: Gillnet fishing effort has increased each year and has resulted in the destruction of approximately 56,000 adult and juvenile lake trout. Catch-per-unit-effort declined in 2002, and again in 2003, and for the first time gave biologists hope exploitation was beginning to affect the population. Sport angling for lake trout has been actively promoted and the angler catch has represented a helpful 20 percent of the total harvest. Research continues to seek tools for combating whirling disease.

Water Quality Issues

Threats in 1995: Yellowstone National Park hosts almost five million visitor use days annually. Old, outdated waste treatment plants, lift stations, and underground lines, and older single wall fuel tanks were causing an unacceptable level of accidental overflows, ruptures, and spills affecting soils, ground and surface waters degrading localized wild lands. In 1995, the failing Norris wastewater treatment plant was closed after recommendations of the U.S. Public Health Service.

Outcome: All of the park's fuel storage tanks have been replaced with new double-walled liquid tanks or replaced with more environmentally friendly propane gas tanks. Congress appropriated monies to replace the Old Faithful, Madison, and Norris sewage treatment plants and those projects are underway or completed. Older or problematic lift stations, lines, grease traps have been replaced at many locations in the park. Yellowstone is a leader in sustainability through its “Greening of Yellowstone” program, which is identifying ways to accomplish its work at less cost and with fewer environmental impacts. A regional compost facility was opened in 2003, for example, and is tangible evidence of the effectiveness of the “Greening” initiative. In addition, the use of biodiesel and ethanol has been an increasing part of park transportation, which has a positive benefit on both air and water.

Status: Yellowstone has made excellent progress addressing threats to water quality and believes that scheduled programs are in place and will continue to resolve the smaller scale projects remaining to be upgraded.

Road Impacts

Threats in 1995: Yellowstone's road system was never designed for the volume, size, and weight of vehicles that travel through the park today. The park maintains 466 miles of roads of which 310 are paved and considered primary roads for the public. The remaining 156 miles are paved or gravel secondary roads for service and/or light public use. The condition of the road system in 1995 was considered deplorable.

Outcome: Yellowstone has an integrated, methodical and long-term program to improve the condition of the park's roads and lessen unsafe conditions and unsatisfactory experiences for visitors and prevention of resource degradation. An annual funded program of complete road bed and/or surface replacement is expected to continue through 2017.

Status: Much has been accomplished upgrading the existing road system since 1995, but it is a slow process because of the short construction season and the reality that reconstruction must be reasonably compatible with summer visitors. As noted above, the current program will be carried out annually through the year 2017, which should largely correct the structural deficiencies. In 2003, Yellowstone issued its Business Plan; its statement of operational needs for the next five years. In that plan, deficiencies in road cyclical maintenance are articulated and would keep those new roads in top, non-deteriorating condition. All federal programs, such as road maintenance, are subject to federal appropriations.

Visitor Use Impacts

Threats in 1995: Increasing visitor pressures on the natural and cultural resources of the park have been of concern to managers for many years. More recently, the quality of a visitor's Yellowstone experience in terms of sights, sounds and smells has also been extensively debated. Concerns have been raised most strongly regarding winter use in the park, but the crowds of summer are also a concern to many people. The numbers of visitors in the park, whether summer or winter, is a contentious subject with the U.S. public.

Outcome: The completion of an EIS on a new winter use management plan and a Record of Decision in 2000, called for protecting visitor safety and enjoyment, air quality, wildlife, and the natural quiet of Yellowstone by phasing out snowmobile use over a three year period, and replacing them with non-polluting, mass transit snow coaches. The decision was challenged in federal court. A subsequent lawsuit settlement stipulated the NPS would prepare a supplemental EIS (SEIS) analyzing the snowmobile ban and various alternatives to the ban. The draft SEIS was released to the public in 2002 and generated over 350,000 public comments. The final SEIS was released in February 2003, and a Record of Decision signed on March 25, 2003, which approved the new winter use plan. The NPS decision allows for continued snowmobile use under strict limitations, establishing daily use limits, requiring the use of the cleaner and quieter, 4-stroke engines, and requiring snowmobile parties to be guided.

Status: The NPS believes the decision addresses winter use related issues and the park's goals of protecting park resources, protecting employee and visitor health and safety, and improving the quality of the visitor experience. Litigation has been initiated regarding the Record of Decision and new management plan but the park intends to implement the plan in December 2003. Summer, fall and spring visitation has been consistently below the high level experienced in 1995. The park has focused on development of partnerships that have encouraged use of alternate fuels for transportation and facilities. These partnerships will help the park and communities foster a region-wide approach to providing visitors and voluntary alternative modes of transportation.

C. Public Comment Solicitation

Persons wishing to comment may do so by any one of several methods. They may mail comments to Suzanne Lewis, Superintendent, Yellowstone National Park, P.O. Box 168, Yellowstone National Park, WY 82190-0168. They also may comment via e-mail to yell_world_heritage@nps.gov (include name and return address in the e-mail message). Finally, they may hand-deliver comments to park headquarters in Mammoth Hot Springs, Wyoming, 82190.

The NPS practice is to make comments, including names and home addresses of respondents, available for public review during regular business hours. Individual respondents may request we withhold their home address from the record, which we will honor to the extent allowable by law. There also may be circumstances in which we would withhold from the record a respondent's identify, as allowable by law. If you wish us to withhold your name and/or address, you must state this prominently at the beginning of your comment. However, we will not consider anonymous comments. We will make all submissions from organizations or businesses, and from individuals identifying themselves as representatives or officials of organizations or businesses, available for public inspection in their entirety.

A. Durand Jones,
Deputy Director.

[FR Doc. 03-29502 Filed 11-25-03; 8:45 am]

BILLING CODE 4312-FR-P